DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of June and July 2004.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a)(2)(B)(II.B) (No shift in production to a foreign country) have not been met.

TA-W-54,944; Norwood Promotional Products, New London, WI

TA-W-55,004; Solutia, Inc., Performance Products Div., Anniston, AL

TA-W-54,828; Caraustar, Cedartown, GA

TA-W-54,796; Venture Industries, Lancaster Ohio Plant, Lancaster, OH

TA-W-54,824; Fincor Automation, div. of Saftronics, York, PA

TA-W-55,148; FAG Interamericana, AG, a subsidiary of FAG, Miami, FL

TA-W-55,051; Sun Air Conditioning, a subsidiary of Fedders Corp., Vienna, GA

TA-W-55,045; Merrow Machine Co., Newington, CT

TA-W-55,041; Dielectric Communications, Raymond Facility, Broadcast Div., Including leased workers of Bonney Staffing, Raymond, ME

TA-W-55,065; Franklin International, Columbus, OH

TA-W-55,003 & A; Pomona Textile Co., Inc., Production Plant, Pomona, CA and Sales Office, Burbank, CA

TA-W-55,080; Vesuvius McDanel, Beaver Falls Div., Beaver Falls, PA

TA-W-54,811; Rock-Tenn Co., Laminated Paperboard Products Div., Wright City, MO

TA-W-54,930; Yukon Manufacturing, Litchfield, MI

TA-W-54,919; Daimlerchrysler Corp., Plant Security Operations, Jefferson North Assembly Plant, Detroit, MI

TA-W-54,995; Herff Jones, Inc., Indianapolis, IN

TA-W-54,989; Paradise Datacom LLC, a div. of Intelek, VSAT Line, Boalsburg, PA

TA-W-54,975; Bake-Line Group LLC, Marietta Plant, Marietta, OK

TA-W-54,866; National Textiles, China Grove, NC

TA-W-54,800A; Johnson Controls, Inc., Southview Plant, Door Panel Line, including leased workers of Kelly Services, Holland, MI

The workers firm does not produce an article as required for certification under Section 222 of the Trade Act of 1974.

TA-W-55,102; Affiliated Computer Services, Inc. Peak Department, Portland, OR

TA-W-55,095; Gateway Country Store, Davenport, IA

TA-W-55,222; ACS Monticello, a subdivision of ACS Business Process Outsourcing, a div. of Affiliated Computer Services, Inc., Monticello, KY

TA-W-55,124; General Electric Capital Corp., GE Auto Financial Services, Depew, NY

TA-W-55,105; Powderject Vaccines, Inc., Middleton, WI

TA-W-54,889; 3m, 3M Center, Industrial Marketing Operations, St. Paul, MN

TA-W-54,950; Continental Retail Services, LLC, Bellbrook, OH

TA-W-54,808; Gateway Country Store, Greenwood, IN

TA-W-54,768; Crystal Springs Apparel, LLC, Crystal Springs, MS

TA-W-54,892; Information Resources, Inc. (IRI), Chicago, IL

TA-W-54,947; Hewlett-Packard Company, TSG Americas Customer Services Delivery, Customer Experience, Customer Access Management, Colorado Springs, CO

TA-W-54,976; Unisys Corp., ETS Industries, Communications Div., including leased workers of Adecco and Teksystems, Malvern, PA

TA-W-55,099; JPMorgan Chase and Co., Credit Card Services/Customer Service/Collections Departments, Hicksville, NY

TA-W-55,037; Symbol Technologies, Inc., Lake Forest Service Center, Lake Forest, CA

TA-W-54,985; Tyco Safety Products, Research and Development Div., Westminster, MS

TA-W-55,125; Volt Temporary Services, Leased Workers Onsite at SR Telecom, Inc., Redmond, WA

TA-W-55,092; Computer Services Corp., Global Transformation Solutions Group, Somerset, NJ

TA-W-54,350; Oracle Corp., Sales Organization, Englewood, CO

TA-W-55,089; Sensormatic Electronics Corp., Access Control/video Systems Business Unit, a Subsidiary of Tyco International, Lexington, MA

TA-W-55,042; NCR Corporation, Business Operations Center—US, Dayton, OH

TA-W-55,066 & A,B,C; Salton, Inc., Columbia, MO, Lake Forest, IL, Macon, MO and Laurinsburg, NC

TA-W-54,872; Sanmina-SCI Corp., Global Engineering and Design Group, Salem NH

TA-W-54,926; Bes-Tex Fabrics, Inc., New York, NY

TA-W-54,959; AT&T, Premise Desktop Support, Piscataway, NJ

TA-W-54,903; Nortel Networks, Global Operations, Supply Management Division, Research Triangle Park, NC

TA-W-54,869; Gearbuck Aviation Maintenance Complex, Blytheville, AR

TA-W-55,018; Hewitt Associates LLC, HRO Health and Welfare Delivery, Direct Billings and Payment, Lincolnshire, IL

TA-W-55,098; Pacific Crest Technology, Tualatin, OR

TA-W-55,070; Franklin Resources, Inc., Franklin Templeton Services, LLC, Global Equity Trading, Ft. Lauderdale, FL

TA-W-55,021; Parametric Technology Corp., Solutions and Marketing Group, WC Publication and Documentation Departments, Needham, MA

TA-W-54,968; Johnson Controls Battery Group, Inc., Battery and Technical Center, Glendale Plant, Milwaukee, WI

TA-W-55,135; Envirovac Industrial and Environmental Services, LLC, Lexington, SC

TA-W-55,072; Jaymar-Ruby, Inc., d/b/a Trans-Apparel Group, a subsidiary of Hartmarx Corp, Michigan City, IN

TA-W-55,126; Buena Vista International, Inc., d/b/a Walt Disney Television International, (Latin America), Coral Gables, FL

TA-W-54,957; Union Carbide Corp., a subsidiary of The Dow Chemical Co., Control Group, South Charleston, WV

The investigation revealed that criterion (a)(2)(A)(I.A) and (a)(2)(B)(II.A) (no employment decline) have not been met.

TA-W-55,027; Tyco Fire & Security, Marinette, WI

TA-W-54,834; Westan, Westfield, PA

TA-W-54,935; Bush Industries, Inc., Erie, PA

TA-W-55,048; Effort Foundry, Inc., Bath, PA

TA-W-54,966; Campbell Colors, Inc, Greenville, SC

TA-W-55,020; Bonbardier Learjet, Indianapolis, IN

The investigation revealed that criterion (a)(2)(A)(I.B) (Sales or production, or both, did not decline) and (a)(2)(B)(II.B) (has shifted production to a county not under the free trade agreement with U.S.) have not been met.

TA-W-54,887; Eaton Aerospace, Sarasota, FL

TA-W-54,878; Smurfit Stone Container Corp., including leased workers of Manpower, Anderson, IN

The investigation revealed that criteria (a)(2)(A)(I.B) (Sales or production, or both, did not decline) and (a)(2)(B)(II.C) (has shifted production to a foreign country) have not been met.

TA-W-54,891; Johnson Diversey, Inc., Customer Service Group, Industrial Group Div., Sharonville, OH

The investigation revealed that criteria (a)(2)(A)(a)(2)(A)(I.C) (Increased imports) and (II.C) (Has shifted production to a foreign country) have not been met.

TA-W-55,108; Cosom Sporting Goods, Inc., Thorofare, NJ

TA-W-54,961; TDS Automotive, Oxford, MI

TA-W-55,152; Dresser, Inc., Roots Division, Houston, TX

TA-W-55,094; Executive Greetings, Inc., New Hartford, CT

The investigation revealed that criteria (2) has not been met. The workers firm (or subdivision) is not a supplier or downstream producer to trade-affected companies.

TA-W-54,906; W.H. Stewart Co., Oklahoma City, OK

TA-W-55,155; Prince Manufacturing, a subsidiary of The Price Group, Greenville, NC

Affirmative Determinations for Worker Adjustment Assistance

The following certifications have been issued; the date following the company name and location of each determination references the impact date for all workers of such determination.

The following certifications have been issued. The requirements of (a) (2) (A) (increased imports) of Section 222 have been met.

TA-W-55,030; New Era Cap. Buffalo Facility, Buffalo, NY: May 25, 2003.

TA-W-55,014; Experience Management, LLC, d/b/a Venture Industries, Grand Rapids, MI: May 24, 2003.

TA-W-54,978; Westpoint Stevens, Fairfax Manufacturing Plant, Valley, AL: May 24, 2003.

TA-W-54,927; Hayes Lemmerz International, Inc., Howell Div., Howell, MI: May 17, 2003.

TA-W-54,899; Zilog, Inc., Nampa Mod II Manufacturing Div., Nampa, ID: May 10, 2003.

TA-W-54,793; Pyrotek, Inc., Trenton, TN: April 27, 2003.

TA-W-55,256; Miller Bag Co., Arlington, SD: July 8, 2003.

TA-W-55,178; Wellington Cordage, LLC, a subsidiary of Wellington Leisure, Inc., Leesville, SC: June 18, 2003.

TA-W-55,154; Apollo Knitwear, Inc., Lafayette, GA: June 17, 2003.

TA-W-55,153; Industrial Engraving and Manufacturing Corp., Pulaski, WI: June 24, 2003.

TA-W-55,087; Pasquier Panel Products, Inc., Sumner, WA: June 14, 2003.

TA-W-54,557; A.F. Dormeyer, Inc., a subsidiary of Saia-Burgess, Inc., Rockville, IN: March 10, 2003.

TA-W-54,981; Elkhart Foundry and Machine Co., Inc., Elkhart, IN: May 25, 2003.

TA-W-55,146; Hekman Furniture Co., a div. of Howard Miller Clock Co., Lexington, NC: June 10, 2003.

TA-W-55,145; Springs Industries, Inc., Bedding Div., including leased workers of Staff Mark, Lyman, SC: June 21, 2003.

TA-W-55,139; Hamrick Industries, Inc., including leased workers of First Staff, Inc., Gaffney, SC: June 24, 2003.

TA-W-54,881; Bradford Soap Works, Inc., West Warwick, RI: May 10, 2003.

TA-W-55,031; Sherwood Home Furnishings, Sewing Operations, Spring City, TN: May 26, 2003.

TA-W-54,994; United Elastic, a div. of Narroflex, Inc. Company, Stuart, VA: May 11, 2003.

TA-W-54,874 & A; Santa's Best, Vineland, NJ and Millville, NJ: April 30, 2003.

TA-W-55,000; Jacquart Fabric Products, Inc., Ironwood, MI: May 24, 2003.

TA-W-54,960; MGS Holding Corp., Woonsocket, RI: May 20, 2003.

TA-W-54,937; Quebecor World Buffalo, Inc., a subsidiary of Quebecor World, Depew, NY: May 11, 2003.

TA-W-54,917; Circuit Wise, Inc., North Haven, CT: May 14, 2003.

TA-W-55,024; Springfield Plastics, Inc., including leased workers of Career Concepts, East Springfield, PA: May 27, 2003.

TA-W-55,017; P.H. Glatfelter Co., d/b/a Glatfelter, Spring Grove Facility, including leased workers of ACSYS, TAC Worldwide Companies, Adecco, Manpower, Spring Grove, PA: June 2, 2003.

TA-W-54,911; The Keller Manufacturing Co., Inc., New Salisbury, IN: May 12, 2003.

TA-W-54,851; Intex Corp., Administrative Office, Greensboro, NC, Print Plant, Pilot Mountain, NC and Garment Distribution Center, Pilot Mountain, NC: May 4, 2003.

TA-W-54,948; R & V Industries, d/b/a Shape Global Technology, Sanford, ME: January 30, 2004.

TA-W-55,047; Imperial Electric Co., Middleport, OH: June 8, 2003.

TA-W-54,870 & A; J&L Specialty Steel, LLC, Corporate Headquarters, including leased workers of Intelligent Personnel Service, Information Technology Professionals, Inc., Technical Solutions, Inc., Balioinis, Deloittle & Touche and Reflex Staffing Solutions, Inc., Moon Township, PA and J&L Specialty Steel, LLC, Midland Plant, including leased workers of Ohio Security Services, Inc., U.S. Security, Allied Security, Technical Solutions, Inc., and Accounttemps, Midland, PA: May 7, 2003.

TA-W-54,871; DeVlieg Bullard II, Inc., Tooling Systems Div., Frankenmuth, MI: May 5, 2003.

TA-W-55,029; Leeda Sewing Manufacturing, Inc., San Francisco, CA: June 3, 2003.

TA-W-55,012; Lavallee & Ide, Inc., Winooski, VT: June 1, 2003.

TA-W-55,026; Snow River Products LLC, a subsidiary of Columbian Home Products, Crandon, WI: June 2, 2003.

TA-W-55,117; Bausch and Lomb, St. Louis, MO: June 15, 2003.

TA-W-55,002; Parallax Power Components, LLC, RV Converter Products Div., Goodland, IN: May 20, 2003.

TA-W-55,136; ITW Auto-Sleeve, a subsidiary of Illinois Tool Works, Twinsburg, OH: June 11, 2003.

TA-W-54,855; Sara Lee Intimates and Hosiery, Aleo Distribution, including leased workers of Kelly Services, Rockingham, NC: April 29, 2003.

The following certifications have been issued. The requirements of (a) (2) (B) (shift in production) of Section 222 have been met.

TA-W-55,035; Remec, Inc., Formerly Paradigm Wireless, Irvine, CA: June 6, 2003.

TA-W-55,054; Varco L.P., including leased workers from Ad-Tek Engineering, Peak Technical Services, Inc., H.L. Yoh, Select Personnel Services, Premier Staffing Solutions, Onsite Commercial, ABS Personnel, Aviant B&m Associates, HR Solutions, Coneybear Staffing, Talent Tree, PDS Technical Services, and Premier Staffing Solutions, Orange, CA: June 3, 2003.

TA-W-55,074; Motion Control Technology, Diversified Products, N.A., a wholly owned subsidiary of Dana Corp., including leased workers of Burnett, El Paso, TX: May 25, 2003.

TA-W-55,199 & A; Brown City Wire Company, a subsidiary of Clements Manufacturing LLC, Harbor Beach, MI and Deckerville Wire, Inc., a subsidiary of Clements Manufacturing LLC, Harbor Beach, MI: August 23, 2004.

TA-W-55,097; Johnson Controls, Lakewood/Beechwood Facilities, Automotive Group, Holland, MI: June 15, 2003.

TA-W-54,970; Lifescan, Inc., a div. of Johnson and Johnson, Milpitas, CA: May 20, 2003.

TA-W-55,071; Wellington Point, LLC, d/b/a Lifelike Hair, Salt Lake City, UT: June 11, 2003.

TA-W-55,107; Magnecomp Corp., Production Div., a subsidiary of Indest Corp., Temecula, CA: June 9, 2003.

TA-W-55,056; Knight Apparel Corp., a div. of Knight Textiles Corp., New York, NY: June 1, 2003.

TA-W-54,879; Vesuvius USA Corp., Foundry Div., Buffalo, NY: May 3, 2003.

TA-W-55,008; National Textiles, Greenwood, South Carolina Cutting Department, Hodges, SC: June 1, 2003. America, Inc., Tualatin, OR and Fife, WA: May 18, 2003.

TA-W-55,033; TAC Americas, Inc., Manufacturing Department, Carrollton, TX: June 3, 2003.

TA-W-55,198; Schnadig Corp., Montoursville, PA: July 1, 2003.

TA-W-55,109; Ericson Manufacturing Co., Willoughby, OH: June 17, 2003.

TA-W-55,093; Galey and Lord Industries, Inc., Shannon, GA: June 15, 2003.

TA-W-55,046; Schweitzer Mauduit International, Inc., Sportswood Mill, Sportswood, NJ: June 8, 2003.

TA-W-55,068; TB Wood's, Inc., Trenton, TN: June 8, 2003.

TA-W-55,159; Alexander Harris Co., Inc., Pelham, GA: June 25, 2003.

TA-W-54,984; C&D Technologies, Inc., Standby Power Div., Leola, PA: May 25, 2003.

TA-W-55,025; Medex Cardio Pulmonary, Inc., d/b/a Medex, Inc., Chicago, IL: June 2, 2003.

TA-W-55,052; Thermotech Company, El Paso, TX: June 8, 2003.

TA-W-55,062; Lakeland Industries, Inc., Woven Products Div., St. Joseph, MO: June 9, 2003.

TA-W-55,061; Prestolite Wire Corp., Tifton, GA: June 1, 2003.

TA-W-55,060; Nemanco, Inc., Philadelphia, MS: June 2, 2003.

TA-W-55,057; Robert Bosch Tool Corp., Leitchfield, KY: June 7, 2003.

TA-W-55,076; Inflation Systems, Inc., LaGrange, GA: June 14, 2003.

TA-W-54,965; Flextronics International, including leased workers of Spherion, Portsmouth, NH: May 21, 2003.

TA-W-55,016; BC Technologies, Inc., Stockbridge, GA: June 2, 2003.

TA-W-55,043; Dorr Oliver Eimco USA, Inc., formerly known as Eimco Processing Co., Milford, CT: June 2, 2003.

TA-W-54,971; Honeywell International, Inc., Sensing and Control Div., Acton, MA: May 21, 2003.

TA-W-54,987; Remington Products, including leased workers of Impact Personnel, Accountants, Inc., Mid State Technical and Power Recruiting, Bridgeport, CT: May 26, 2003.

TA-W-54,839; Flextronics International, Parsippany, NJ: May 3, 2003.

TA-W-54,898; Ogden Manufacturing, Inc., Albany Plant including leased workers of Kelly Services, Albany, WI: May 4, 2003.

TA-W-54,936; Deuer Manufacturing, Inc., d/b/a Flex-N-Gate Deuer, Dayton, OH: May 10, 2003.

TA-W-55,50 & A; TI Group Automotive Systems, LLC, Washington Court House, OH and Sabina, OH: May 20, 2003.

TA-W-55,106; Truth Hardware, Pacoima, CA: June 17, 2003.

TA-W-55,073; R/D Tech, Madison, PA: June 2, 2003.

TA-W-54,977; Custom Tool and Manufacturing Co., Lawrenceburg, KY: May 24, 2003.

TA-W-54,800; Johnson Controls, Inc., Southview Plant, Sun Visor Line, including leased workers of Kelly Services, Holland, MI: April 8, 2003.

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)ii) have not been met for the reasons specified.

The Department has determined that criterion (1) of Section 246 has not been met. Workers at the firm are 50 years of age or older.

TA-W-54,977; Custom Tool and Manufacturing Co., Lawrenceburg, KY

The Department has determined that criterion (2) of Section 246 has not been met. Workers at the firm possess skills that are easily transferable.

TA-W-55,073; R/D Tech, Madison, PA

TA-W-55,106; Truth Hardware, Pacoima, CA

TA-W-54,855; Sara Lee Intimates and Hosiery, Aleo Distribution, including leased workers of Kelly Services, Rockingham, NC

TA-W-55,136; ITW Auto-Sleeve, a subsidiary of Illinois Tool Works, Twinsburg, OH

TA-W-55,002; Parallax Power Components, LLC, RV Converter Products Div., Goodland, IN

TA-W-55,026; Snow River Products LLC, a subsidiary of Columbian Home Products, Crandon, WI

TA-W-55,012; Lavallee and Ide, Inc., Winooski, VT

The Department has determined that criterion (3) of Section 246 has not been met. The competitive conditions within the workers' industry is adverse.

TA-W-55,117; Bausch and Lomb, St. Louis, MO

Since the workers are denied eligibility to apply for TAA, the workers cannot be certified eligible for ATAA.

TA-W-54,957; Union Carbide Corp., a subsidiary of The Dow Chemical Co., Control Group, South Charleston, WV

TA-W-54,966; Campbell Colors, Inc., Greenville, SC

TA-W-54,975; Bake-Line Group LLC, Marietta Plant, Marietta, OK

TA-W-54,989; Paradise Datacom LLC, a div. of Intelek, Vsat Line, Boalsburg, PA

TA-W-54,995; Herff Jones, Inc., Indianapolis, IN

TA-W-55,048; Effort Foundry, Inc, Bath, PA

TA-W-54,919; Daimlerchrysler Corp., Plant Security Operations, Jefferson North Assembly Plant, Detroit, MI

TA-W-54,930; Yukon Manufacturing, Litchfield, MI

TA-W-54,935; Bush Industries, Inc., Erie, PA

TA-W-54,811; Rock-Tenn Co., Laminated Paperboard Products Div., Wright City, MO

TA-W-54,834; Westan, Westfield, PA

TA-W-55,126; Buena Vista International, Inc., d/b/a Walt Disney Television International (Latin America), Coral Gables, FL

TA-W-55,072; Jaymar-Ruby, Inc., d/b/a Trans-Apparel Group, a subsidiary of Hartmarx Corp., Michigan City, IN

TA-W-55,080; Vesuvius McDanel, Beaver Falls Div., Beaver Falls, PA

TA-W-55,003 &A; Pomona Textile Co., Inc., Production Plant, Pomona, CA and Sales Office, Burbank, CA

TA-W-55,135; Envirovac Industrial and Environmental Services, LLC, Lexington, SC

TA-W-54,887; Eaton Aerospace, Sarasota, FL

TA-W-54,968; Johnson Controls Battery Group, Inc., Battery and Technical Center, Glendale Plant, Milwaukee, WI

TA-W-55,020; Bombardier Learjet, Indianapolis, IN

TA-W-55,021; Parametric Technology Corp., Solutions and Marketing Group, WC Publication and Documentation Departments, Needham, MA

TA-W-55,070; Franklin Resources, Inc., Franklin Templeton Services, LLC, Global Equity Trading, Ft. Lauderdale, FL

TA-W-55,065; Franklin International, Columbus, OH

TA-W-55,098; Pacific Crest Technology, Tualatin, OR

TA-W-55,027; Tyco Fire and Security, Marinette, WI

TA-W-55,018; Hewitt Associates LLC, HRO Health and Welfare Delivery, Director Billings and Payment, Lincolnshire, IL

TA-W-54,869; Gearbuck Aviation Maintenance Complex, Blytheville, AR

TA-W-54,903; Nortel Networks, Global Operations, Supply Management Division, Research Triangle Park, NC

TA-W-54,878; Smurfit Stone Container Corp., including leased workers of Manpower, Anderson, IN

TA-W-54,959; AT&T, Premise Desktop Support, Piscataway, NJ

TA-W-54,926; Bes-Tex Fabrics, Inc., New York, NY

TA-W-54,961; TDS Automotive, Oxford, MI

TA-W-54,800A; Johnson Controls, Inc., Southview Plant, Door Panel Line, including leased workers of Kelly Services, Holland, MI

TA-W-55,041; Dielectric Communications, Raymond Facility, Broadcast Div., including leased workers of Bonney Staffing, Raymond, ME

TA-W-54,866; National Textiles, China Grove, NC

TA-W-54,872; Sanmina-SCI Corp., Global Engineering and Design Group, Salem, NH

TA-W-55,152; Dresser, Inc., Roots Division, Houston, TX

TA-W-55,066 & A,B,C;; Salton, Inc., Columbia, MO, Lake Forest, IL, Macon, MO and Laurinsburg, NC

TA-W-55,094; Executive Greetings, Inc., New Hartford, CT

TA-W-55,108; Cosom Sporting Goods, Inc., Thorofare, NJ

TA-W-55,155; Prince Manufacturing, a subsidiary of The Prince Group, Greenville, NC

TA-W-55,042; NCR Corp., Business Operations Center—U.S., Dayton, OH

TA-W-55,045; Merrow Machine Co., Newington, CT

TA-W-55,051; Sun Air Conditioning, a subsidiary of Fedders Corp., Vienna, GA.

Affirmative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-55,050 & A; TI Group Automotive Systems, LLC, Washington Court House, OH and Sabine, OH: May 20, 2003

TA-W-55,047; Imperial Electric Co., Middleport, OH: June 8, 2003.

TA-W-55,029; Leeda Sewing Manufacturing, Inc., San Francisco, CA: June 3, 2003.

TA-W-54,936; Deuer Manufacturing, Inc., d/b/a Flex-N-Gate Deuer, Dayton, OH: May 10, 2003.

TA-W-54,871; DeVlieg Bullard II, Inc., Tooling Systems Division, Frankenmuth, MI: May 5, 2003.

TA-W-54,898; Ogden Manufacturing, Inc., Albany Plant including leased workers of Kelly Services, Albany, WI: May 4, 2003.

TA-W-54,870 & A; J&L Specialty Steel, LLC, Corporate Headquarters, including leased workers of Intelligent Personnel Service, Information Technology Professionals, Inc., Technical Solutions, Inc., Balionis, Deloitte & Touche and Reflex Staffing Solutions, Inc., Moon Township, PA and J&L Specialty Steel, LLC, Midland Plant, including leased workers of Ohio Security Services, Inc., U.S. Security, Allied Security, Technical Solutions, Inc., and Accounttemps, Midland, PA: May 7, 2003.

TA-W-54,839; Flextronics International, Parsippany, NJ: May 3, 2003.

TA-W-54,987; Remington Products, including leased workers of Impact Personnel, Accountants, Inc., Mid-State Technical and Power Recruiting, Bridgeport, CT: May 26, 2003.

TA-W-54,971; Honeywell International, Inc, Sensing and Control Div., Acton, MA: May 21, 2003.

TA-W-54,948; R & V Industries, d/b/a Shape Global Technology, Sanford, ME: January 30, 2004.

TA-W-55,043; Dorr-Oliver Eimco USA, Inc., formerly known as Eimco Processing Co., Milford, CT: June 2, 2003.

TA-W-54,851 A,B; Intex Corporation, Administrative Office, Greensboro, NC, Print Plant, Pilot Mountain, NC and Garment Distribution Center, Pilot Mountain, NC: May 4, 2003.

TA-W-55,016; BC Technologies, Inc., Stockbridge, GA: June 2, 2003.

TA-W-54,911; The Keller Manufacturing Co., Inc., New Salisbury, IN: May 12, 2003.

TA-W-54,965; Flextronics International, including leased workers of Spherion, Portsmouth, NH: May 21, 2003.

TA-W-55,076; Inflation Systems, Inc., LaGrange, GA: June 14, 2003.

TA-W-55,057; Robert Bosch Tool Corp., Leitchfield, KY: June 7, 2003.

TA-W-55,060; Nemanco, Inc., Philadelphia, MS: June 2, 2003.

TA-W-55,061; Prestolite Wire Corp., Tifton, GA: June 1, 2003.

TA-W-55,062; Lakeland Industries, Inc., Woven Products Div., St. Joseph, MO: June 9, 2003.

TA-W-55,052; Thermotech Co., El Paso, TX: June 8, 2003.

TA-W-55,017; P.H. Glatfelter Co., d/b/a Glatfelter, Spring Grove Facility, including leased workers of ACSYS, TAC Worldwide Companies, Adecco, Manpower, Spring Grove, PA: June 2, 2003.

TA-W-55,024; Springfield Plastics, Inc., including leased workers of Career Concepts, East Springfield, PA: May 27, 2003.

TA-W-55,025; Medex Cardio-Pulmonary, Inc., d/b/a Medex, Inc., Chicago, IL: June 2, 2003.

TA-W-54,917; Circuit-Wise, Inc., North Haven, CT: May 14, 2003.

TA-W-54,937; Quebecor World Buffalo, Inc., a subsidiary of Quebecor World, Depew, NY: May 11, 2003.

TA-W-54,960; MGS Holding Corporation, Woonsocket, RI: May 20, 2003.

TA-W-54,984; C&D Technologies, Inc., Standby Power Div., Leola, PA: May 25, 2003.

TA-W-55,000; Jacquart Fabric Products, Inc., Ironwood, MI: May 24, 2003.

TA-W-54,874 & A; Santa's Best, Vineland, NJ and Millville, NJ: April 30, 2003.

TA-W-55,159; Alexander-Harris Co., Inc., Pelham, GA: June 25, 2003.

TA-W-54,800; Johnson Controls, Inc., Southview Plant, Sun Visor Line, including leased workers of Kelly Services, Holland, MI: April 8, 2003.

TA-W-54,994; United Elastic, a div. of Narroflex, Inc., Company, Stuart, VA: May 11, 2003.

TA-W-55,031; Sherwood Home Furnishings, Sewing Operations, Spring City, TN: May 26, 2003.

TA-W-55,068; TB Wood's, Inc., Trenton, NJ: June 8, 2003.

TA-W-54,881; Bradford Soap Works, Inc., West Warwick, RI: May 10, 2003.

TA-W-55,139; Hamrick Industries, Inc., including leased workers of First Staff, Inc., Gaffney, SC: June 24, 2003.

TA-W-55,145; Springs Industries, Inc., Bedding Div., including leased workers of Staff Mark, Lyman, SC: June 21, 2003.

TA-W-55,146; Hekman Furniture Co., a div. of Howard Miller Clock Company, Lexington, NC: June 10, 2003.

TA-W-55,046; Schweitzer-Mauduit International, Inc., Sportswood Mill, Sportswood, NJ: June 8, 2003.

TA-W-54,981; Elkhart Foundry & Machine Co. Inc., Elkhart, IN: May 25, 2003.

TA-W-54,557; A.F. Dormeyer, Inc., a subsidiary of Saia-Burgess, Inc., Rockville, IN: March 10, 2003.

TA-W-55,093; Galey & Lord Industries, Inc., Shannon, GA: June 15, 2003.

TA-W-55,109; Ericson Manufacturing Co., Willoughby, OH: June 17, 2003.

TA-W-55,087; Pasquier Panel Products, Inc., Sumner, WA: June 14, 2003.

TA-W-55,153; Industrial Engraving and Manufacturing Corp., Pulaski, WI: June 24, 2003.

TA-W-55,154; Apollo Knitwear, Inc., Lafayette, GA: June 17, 2003.

TA-W-55,178; Wellington Cordage, LLC, a subsidiary of Wellington Leisure, Inc., Leesville, SC: June 18, 2003.

TA-W-55,198; Schnadig Corp., Montoursville, PA: July 1, 2003.

TA-W-55,256; Miller Bag Co., Arlington, SD: July 8, 2003.

TA-W-54,793; Pyrotek, Inc., Trenton, TN: April 27, 2003.

TA-W-54,899; Zilog, Inc., Nampa Mod II Manufacturing Div., Nampa, ID: May 10, 2003.

TA-W-54,927; Hayes Lemmerz International, Inc., Howell Div., Howell, MI: May 17, 2003.

TA-W-54,978; Westpoint Stevens, Fairfax Manufacturing Plant, Valley, AL: May 24, 2003.

TA-W-55,014; Experience Management, LLC, d/b/a Venture Industries, Grand Rapids, MI: May 24, 2003.

TA-W-55,030; New Era Cap, Buffalo, Facility, Buffalo, NY: May 25, 2003.

TA-W-55,033; TAC Americas, Inc., Manufacturing Department, Carrollton, TX: June 3, 2003.

I hereby certify that the aforementioned determinations were issued during the months of June and July 2004. Copies of these determinations are available for inspection in Room C-5311, U.S. Department of Labor, 200 Constitution Avenue, NW., Washington, DC 20210 during normal business hours or will be mailed to persons who write to the above address.

Dated: July 26, 2004.
Timothy Sullivan,
Director, Division of Trade Adjustment Assistance.

[FR Doc. 04-17598 Filed 8-2-04; 8:45 am]

BILLING CODE 4510-30-P